DEPARTMENT OF HEALTH AND HUMAN SERVICES

National Institutes of Health

Center for Scientific Review; Amended Notice of Meeting

Notice is hereby given of a change in the meeting of the Center for Scientific Review Special Emphasis Panel, October 09, 2013, 08:00 a.m. to October 09, 2013, 06:00 p.m., Residence Inn Bethesda, 7335 Wisconsin Avenue, Bethesda, MD 20814, which was published in the Federal Register on September 17, 2013, 78 FR 57169.

The meeting will be held at the National Institutes of Health, 6701 Rockledge Drive, Bethesda, MD 20892 on December 19, 2013, starting at 12:00 p.m. and ending at 05:00 p.m. The meeting is closed to the public.

Dated: November 13, 2013.
Melanie J. Gray,
Program Analyst, Office of Federal Advisory Committee Policy.

[FR Doc. 2013-27595 Filed 11-18-13; 8:45 am]

BILLING CODE 4140-01-P